DEPARTMENT OF COMMERCE

National Oceanic and Atmospheric Administration

50 CFR Part 665

[Docket No. 141110950-5227-02]

RIN 0648-BE63

Pacific Island Fisheries; Pacific Remote Islands Marine National Monument Expansion

AGENCY: National Marine Fisheries Service (NMFS), National Oceanic and Atmospheric Administration (NOAA), Commerce.

ACTION: Final rule.

SUMMARY: In this final rule, NMFS establishes requirements for fishing in the Pacific Remote Islands Marine National Monument Expansion. This final rule implements fishery management measures required by Presidential Proclamation 9173.

DATES: This final rule is effective on April 24, 2015.

ADDRESSES: You may review Presidential Proclamation 9173 establishing the Pacific Remote Islands Marine National Monument (PRI Monument Expansion), Presidential Proclamation 8336 (establishing the PRI Monument), and the PRI Monument fishing requirements established in Amendment 2 to the Fishery Ecosystem Plan for the Pacific Remote Island Areas published in 2013, at www.regulations.gov. Amendment 2 is also available from the Western Pacific Fishery Management Council (Council), 1164 Bishop St., Suite 1400, Honolulu, HI 96813, tel 808-522-8220, fax 808-522-8226, or from www.wpcouncil.org.

FOR FURTHER INFORMATION CONTACT: Bob Harman, NMFS PIR Sustainable Fisheries, tel 808-725-5170.

SUPPLEMENTARY INFORMATION: NMFS and the Council manage Pacific Island fisheries through fishery ecosystem plans (FEP) for American Samoa, Hawaii, the Mariana Archipelago (Guam and the Commonwealth of the Northern Mariana Islands), the Pacific Remote Island Areas (PRIA), and pelagic fisheries. Fishing regulations for the Pacific Islands are found mainly in 50 CFR part 665.

In 2009, President Bush issued Presidential Proclamations that established three Marine National Monuments in the Pacific Islands, including the PRI Monument (Proclamation 8336). The 2009 Proclamations directed the Secretaries of the Interior and Commerce to regulate fisheries, including allowing for traditional indigenous fishing practices, and to ensure proper care and management of the monuments. In 2013, the Council incorporated the Proclamations' fishery management provisions into its FEPs. Based on the Proclamations and Council recommendations, NMFS implemented a final rule (78 FR 32996, June 3, 2013) that, among other things, codified the PRI Monument's boundaries and prohibited commercial fishing throughout the PRI Monument. It further established management measures for non-commercial and recreational fishing.

In September 2014, President Obama issued Presidential Proclamation 9173, the “Pacific Remote Islands Marine National Monument Expansion” (PRI Monument Expansion). The PRI Monument Expansion includes the waters and submerged lands of Jarvis and Wake Islands and Johnston Atoll that lie from the PRI Monument boundary established in Proclamation 8336 to the seaward limit of the U.S. Exclusive Economic Zone (U.S. EEZ, as established in Proclamation 5030 of March 10, 1983).

The intent of the PRI Monument Expansion was to provide expanded protection to objects of scientific interest, including seamounts, deep sea corals, sea turtles, seabirds, and other species. The action called for the prohibition on commercial fishing in the PRI Monument Expansion and directed the Secretaries of the Interior and Commerce to ensure that recreational and non-commercial fishing continue to be managed as sustainable activities in the PRI Monument and Monument Expansion.

Consistent with Proclamation 9173, existing requirements in the PRI Monument, and Council recommendations from its 161st meeting held in Honolulu from October 20-23, 2014, this final rule prohibits commercial fishing, and allows for managed non-commercial fishing, in the PRI Monument Expansion. The requirements for fishing in the Monument Expansion now include, among other things, the following:

• Prohibition of commercial fishing;

• Permit and reporting requirements for non-commercial and recreational fishing;

• Prohibition of the conduct of commercial fishing outside the PRI Monument and Monument Expansion and non-commercial fishing within the PRI Monument and Monument Expansion during the same trip; and

• Federal permit and reporting requirements at §§ 665.13 and 665.14, and the vessel identification requirements at § 665.16.

Additional background information on this final rule is found in the preamble to the proposed rule published on January 14, 2015 (80 FR 1881), and is not repeated here.

Comments and Responses

On January 14, 2015, NMFS published a proposed rule and request for public comments (80 FR 1881); the comment period ended February 13, 2015. NMFS received one comment from the Tri Marine Group, which represents six U.S. flag tuna purse seine vessels, and responds as follows:

Comment: The proposed expansion of the Monument would be harmful to the economic future of the U.S. purse seine fleet and to American Samoa because it unnecessarily restricts access to fishing areas that are already heavily restricted, and would further concentrate tuna fishing pressure into a smaller geographic area. Therefore, NMFS should include a regulatory permit exception in the final rule that would allow U.S. fishery endorsed and documented purse seine vessels to fish in the expanded Monument area between the existing Monument boundaries and the outer limit of the U.S. EEZ at Jarvis and Wake Islands and at Johnston Atoll.

Response: NMFS acknowledges that the Monument Expansion will have impacts on the U.S. purse seine fishery. Purse seine fishing effort in the PRIAs over the past several decades has ranged from less than one percent to about a fifth of the total U.S. purse seine fishing effort in the Pacific. The purse seine catch from the PRIAs has ranged from none to a quarter of the total U.S. Pacific purse seine catch. The average catch from all the PRIAs combined have averaged about five percent of the total U.S. Pacific purse seine catch. The EEZ around Howland and Baker—not affected by this final rule—has received the most effort (about eight fishing days per vessel per year), followed by Jarvis (two days) and Kingman and Palmyra (0.3 days). No purse seine fishing has occurred at Wake Island.

Despite these impacts, Presidential Proclamation 8336 clearly states that the Secretaries of Commerce and the Interior shall not allow or permit any appropriation, injury, destruction, or removal of any feature of this monument, except as provided for by the Proclamation. Specifically, the Proclamation calls for the prohibition of commercial fishing within boundaries of the monument (January 12, 2009, 74 FR 1565). Proclamation 9173 expands the boundaries of the Pacific Remote Islands Marine National Monument to the seaward limit of the U.S. EEZ at Jarvis and Wake Islands and Johnston Atoll, and directs the Secretaries of the Commerce and the Interior to continue to manage the expanded monument as directed in Proclamation 8336. Proclamation 9173 directs the Secretary of Commerce to extend the ban on commercial fishing to the seaward limit of the U.S. EEZ at Jarvis and Wake Islands and Johnston Atoll. NMFS, under authority of the Magnuson-Stevens Act, may not take action inconsistent with other applicable laws; here, the Proclamations are clear regarding the prohibition on commercial fishing within the PRI Monument and Monument Expansion. NMFS, therefore, does not have authority under the Magnuson-Stevens Act to provide a permit exception to this prohibition.

Changes to the Proposed Rule

There are no changes in this final rule from the proposed rule.

Classification

The Regional Administrator, Pacific Islands Region, NMFS, has determined that this final rule is necessary for the conservation and management of the fisheries in the PRI Monument, and that it is consistent with the Magnuson-Stevens Fishery Conservation and Management Act and other applicable laws.

Executive Order 12866

This final rule has been determined to be not significant for purposes of Executive Order 12866.

Certification Under the Regulatory Flexibility Act

The Chief Council for Regulation of the Department of Commerce certified to the Chief Council for Advocacy of the Small Business Administration during the proposed rule stage that this action would not have a significant economic impact on a substantial number of small entities. NMFS published the factual basis for the certification in the proposed rule and does not repeat it here. NMFS received no comments regarding this certification. As a result, a regulatory flexibility analysis was not required and none was prepared.

List of Subjects in 50 CFR Part 665

Administrative practice and procedure, Commercial fishing, Fisheries, Monuments and memorials, Pacific Remote Islands.

Dated: March 13, 2015.
Samuel D. Rauch III,
Deputy Assistant Administrator for Regulatory Programs, National Marine Fisheries Service.

For the reasons set out in the preamble, NMFS amends 50 CFR part 665 as follows:

PART 665—FISHERIES IN THE WESTERN PACIFIC

1. The authority citation for 50 CFR part 665 continues to read as follows:

Authority: 16 U.S.C. 1801 et seq.

2. Revise § 665.930 to read as follows:

§ 665.930 Scope and purpose.

The regulations in this subpart codify certain provisions of the Proclamations, and govern the administration of fishing in the Monument.

3. In § 665.931, revise paragraphs (a), (c), and (d) to read as follows:

§ 665.931 Boundaries.

* * * * *

(a) Wake Island. The Wake Island unit of the Monument includes the waters and submerged and emergent lands around Wake Island to the seaward limit of the U.S. EEZ.

* * * * *

(c) Jarvis Island. The Jarvis Island unit of the Monument includes the waters and submerged and emergent lands around Jarvis Island to the seaward limit of the U.S. EEZ.

(d) Johnston Atoll. The Johnston Atoll unit of the Monument includes the waters and submerged and emergent lands around Johnston Atoll to the seaward limit of the U.S. EEZ.

* * * * *

4. In § 665.932, revise the definition of “Monument”, remove the definition of “Proclamation”, and add the definition of “Proclamations” in alphabetical order to read as follows:

§ 665.932 Definitions.

* * * * *

Monument means the waters and submerged and emergent lands of the Pacific Remote Islands Marine National Monument and the Pacific Remote Islands Marine National Monument Expansion, as defined in § 665.931.

Proclamations means Presidential Proclamation 8336 of January 6, 2009, “Establishment of the Pacific Remote Islands Marine National Monument,” and Presidential Proclamation 9173 of September 29, 2014, “Pacific Remote Islands Marine National Monument Expansion.”

[FR Doc. 2015-06402 Filed 3-24-15; 8:45 am]

BILLING CODE 3510-22-P